DEPARTMENT OF TRANSPORTATION

Surface Transportation Board

[STB Finance Docket No. 34175]

Canadian National Railway Company and Wisconsin Central Ltd.—Trackage Rights Exemption—Wisconsin & Southern Railroad Company

Wisconsin & Southern Railroad Company (WSOR), pursuant to a written trackage rights amendment agreement entered into between WSOR and Canadian National Railway Company (CN) (for CN and on behalf of Wisconsin Central Transportation Corporation (WCTC) and WCTC's wholly owned subsidiary Wisconsin Central Ltd. (WCL)),¹ has agreed to grant nonexclusive overhead trackage rights to WCL over WSOR's main line between milepost 115.9 at Slinger, WI, and milepost 93.2 ² at North Milwaukee, WI, including trackage rights connecting with FVW's main line at DBR Junction milepost 103.1, and connecting with WCL's Plymouth Sub at North Milwaukee (joint trackage), a distance of approximately 22.7 miles.³

¹ CN has been authorized to control WCTC and WCTC's subsidiaries, which include WCL and Fox Valley & Western Ltd. (FVW). See Canadian National Railway Company, Grand Truck Corporation, and WC Merger Sub, Inc.—Control—Wisconsin Central Transportation Corporation, Wisconsin Central Ltd., Fox Valley & Western Ltd., Sault Ste. Marie Bridge Company, and Wisconsin Chicago Link Ltd., STB Finance Docket No. 34000 (STB served Sept. 7, 2001).

² This is the point where WSOR ownership ends and Canadian Pacific Railway Company (Canadian Pacific) ownership begins.

³ The trackage rights amend and expand rights already in place between milepost 112.6 at Rugby Junction and milepost 93.4 at North Milwaukee. See Wisconsin Central Ltd.—Trackage Rights Exemption—Wisconsin & Southern Railroad Company, STB Finance Docket No. 33600 (STB served June 2, 1998).

The transaction was scheduled to be consummated on or soon after March 7, 2002, the effective date of the exemption (7 days after the notice was filed).

The proposed amendment to the trackage rights would grant CN and WCL the right to use the joint trackage for the operation of its freight trains, locomotives, cabooses and rail cars (including business cars) and roadway equipment in its account over the subject line with WSOR and other carriers that may be permitted to use all or any part of the subject line for, among other things, the purpose of interchanging cars between WCL and Canadian Pacific and Union Pacific Railroad Company, and between WCL and FVW, as well as connecting various WCL and FVW lines and trackage rights.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34175, must be filed with the Surface Transportation Board, Office of the Secretary, Case Control Unit, 1925 K Street, NW., Washington, DC 20423-0001. In addition, a copy of each pleading must be served on Michael J. Barron, Jr., 455 North Cityfront Plaza Drive, Chicago, IL 60211-5317.

Board decisions and notices are available on our website at WWW.STB.DOT.GOV.”

Decided: March 13, 2002.
By the Board, David M. Konschnik, Director, Office of Proceedings.
Vernon A. Williams,
Secretary.

[FR Doc. 02-6593 Filed 3-19-02; 8:45 am]

BILLING CODE 4915-00-P